DEPARTMENT OF HEALTH AND HUMAN SERVICES

Centers for Disease Control and Prevention

Request for Nominations for Candidates To Serve on the National Public Health Surveillance and Biosurveillance Advisory Committee (NPHSBAC)

Correction: This notice was published in the Federal Register on November 1, 2012 Volume 77, Number 215, page 66620. This notice is to announce the extension of submission for potential nominees.

Nominations should be sent, in writing, and postmarked by December 21, 2012: Vernellia Johnson, Management and Program Analyst, Public Health Surveillance and Informatics Program Office, Centers for Disease Control and Prevention, Office of Surveillance, Epidemiology and Laboratory Services Century, 1600 Clifton Road NE., MS E-97, Atlanta, GA 30333 or via email to hft9@cdc.gov. Telephone and facsimile submissions cannot be accepted.

The Director, Management Analysis and Services Office, has been delegated the authority to sign Federal Register notices pertaining to announcements of meetings and other committee management activities for both CDC and the Agency for Toxic Substances and Disease Registry.

Dated: November 30, 2012.
Cathy Ramadei,
Acting Director, Management Analysis and Services Office, Centers for Disease Control and Prevention (CDC).

[FR Doc. 2012-29478 Filed 12-5-12; 8:45 am]

BILLING CODE 4163-18-P